SECURITIES AND EXCHANGE COMMISSION

Sunshine Act Meetings

FEDERAL REGISTER CITATION OF PREVIOUS ANNOUNCEMENT: 90 FR 2759, January 13, 2025.

PREVIOUSLY ANNOUNCED TIME AND DATE OF THE MEETING: Thursday, January 16, 2025, at 2:00 p.m.

CHANGES IN THE MEETING: The Closed Meeting scheduled for Thursday, January 16, 2025, at 2:00 p.m., has been changed to Thursday, January 16, 2025, at 1:00 p.m.

CONTACT PERSON FOR MORE INFORMATION: For further information; please contact Vanessa A. Countryman from the Office of the Secretary at (202) 551-5400.

Authority: 5 U.S.C. 552b.

Dated: January 14, 2025.
Vanessa A. Countryman,
Secretary.

[FR Doc. 2025-01298 Filed 1-14-25; 4:15 pm]

BILLING CODE 8011-01-P